DEPARTMENT OF ENERGY

Federal Energy Regulatory Commission

[Docket Nos. EL04-105-000 and ER04-742-000]

PJM Interconnection, L.L.C.; Notice of Initiation of Proceeding and Refund Effective Date

June 9, 2004.

Take notice that on May 28, 2004, the Commission issued an order, as revised by an Errata Notice issued June 9, 2004, in the above-referenced dockets initiating an investigation in Docket No. EL04-105-000 under section 206 of the Federal Power Act to determine whether PJM's existing process for allocating Financial Transmission Rights and Auction Revenue Rights is unduly preferential.

The refund effective date in Docket No. EL04-105-000, established pursuant to section 206(b) of the Federal Power Act, will be 60 days from the date this notice is published in the Federal Register.

Linda Mitry,
Acting Secretary.

[FR Doc. E4-1353 Filed 6-16-04; 8:45 am]

BILLING CODE 6717-01-P